DEPARTMENT OF STATE

[Public Notice 4554]

United States Climate Change Science Program

ACTION: Request U.S. nomination of experts for consideration as coordinating lead authors, lead authors, contributing authors, expert reviewers, and review editors for the Fourth Assessment Report (AR4) of the Intergovernmental Panel on Climate Change (IPCC).

SUMMARY: The role of the IPCC is to assess on a comprehensive, objective, open and transparent basis, the scientific, technical, and socio-economic information relevant to understanding the scientific basis of risk of human-induced climate change, its potential impacts, and options for adaptation and mitigation. The IPCC has three working groups: Working Group I assesses the scientific aspects of the climate system and climate change; Working Group II assesses the vulnerability of socio-economic and natural systems to climate change, negative and positive consequences of climate change, and options for adapting to it; and Working Group III assesses options for limiting greenhouse gas emissions and otherwise mitigating climate change. The IPCC provides scientific, technical, and socio-economic advice to the world community, and in particular to the parties to the United Nations Framework Convention on Climate Change (UNFCCC) through its periodic assessment reports and special reports. The IPCC has decided to continue to prepare comprehensive assessment reports and agreed to complete its Fourth Assessment Report in 2007.

The U.S. Government has received a request from the IPCC to nominate experts for consideration as coordinating lead authors, lead authors, contributing authors, expert reviewers, and review editors for the different chapters and volumes of the Fourth Assessment Report. Further information on this request—such as the IPCC request for nominations, the approved outlines of the three IPCC working groups for the AR4, a description of the roles responsibilities associated with them, and a nomination form that must be completed for each nominee—may be found at either the IPCC Secretariat (http://www.ipcc.ch/ar4/nominations/nominations.htm) or CCSP (http://www.climatescience.gov/Library/ipcc/default.htm) Web sites.

DATES: Completed nomination forms for each nominee should be returned to the Climate Change Science Program Office (ipcc_nominations@usgcrp.gov) by noon Monday, January 5, 2004.

FOR FURTHER INFORMATION CONTACT: David Allen, U.S. Climate Change Science Program, Suite 250, 1717 Pennsylvania Ave, NW., Washington, DC 20006. (Phone: 202-419-3468, Fax: 202-223-3065, Email: dallen@usgcrp.gov); or visit the CCSP Web site at http://www.climatescience.gov.

Dated: December 8, 2003.
Roberta L. Chew,
Office Director, Acting, Office of Global Change, Bureau of Oceans and International Environmental and Scientific Affairs, U.S. Department of State.

[FR Doc. 03-30787 Filed 12-11-03; 8:45 am]

BILLING CODE 4710-09-P